DEPARTMENT OF THE INTERIOR

Fish and Wildlife Service

Notice of Availability of a Draft Environmental Impact Statement/ Environmental Impact Report and Receipt of an Application for an Incidental Take Permit for the Western Riverside County Multiple Species Habitat Conservation Plan

AGENCY: Fish and Wildlife Service, Department of the Interior.

ACTION: Notice of Availability; Receipt of Application.

SUMMARY: The County of Riverside (County), Riverside County Flood Control and Water Conservation District, Riverside County Transportation Commission, Riverside County Parks and Open Space District, Riverside County Waste Department, California Department of Transportation, California Department of Parks and Recreation, and 14 western Riverside County cities (Applicants) have applied to the U.S. Fish and Wildlife Service (Service) for an incidental take permit pursuant to section 10(a)(1)(B) of the Endangered Species Act of 1973, as amended (Act). The Service is requesting public comment on the Draft Multiple Species Habitat Conservation Plan (MSHCP) and draft Implementing Agreement. The Applicants seek a permit to authorize incidental take of 146 species, including unlisted species that may become listed during the term of the permit. An incidental take permit is required to authorize take of listed species during urban and rural development in the approximately 1.26 million-acre (1,967 square-mile) Plan Area in western Riverside County. The proposed term of the permit is 75 years.

A Draft Environmental Impact Statement, which is the Federal portion of the Draft Environmental Impact Statement/Environmental Impact Report (EIS/EIR), has been prepared jointly by the Service and the County of Riverside to analyze the impacts of the MSHCP and is also available for public review. The analyses provided in the Draft EIS/EIR are intended to inform the public of our proposed action, alternatives, and associated impacts; address public comments received during the scoping period for the Draft EIS/EIR; disclose the direct, indirect, and cumulative environmental effects of the proposed action and each of the alternatives; and indicate any irreversible commitment of resources that would result from implementation of the proposed action.

DATES: Written comments should be received on or before January 14, 2003.

ADDRESSES: Send comments to Mr. Jim Bartel, Field Supervisor, U.S. Fish and Wildlife Service, 2730 Loker Avenue West, Carlsbad, California 92008. You also may submit comments by facsimile to (760) 431-9618. Information, comments and/or questions related to the EIR and the California Environmental Quality Act should be submitted to Ms. Kristi Lovelady, Riverside County Transportation Land Management Agency, PO Box 1605, 4080 Lemon Street—7th Floor, Riverside CA 92502; facsimile (909) 955-6879.

FOR FURTHER INFORMATION CONTACT: Ms. Karen Evans, Assistant Field Supervisor, at the Carlsbad Fish and Wildlife Office above; telephone (760) 431-9440.

SUPPLEMENTARY INFORMATION:

Availability of Documents

Documents available for public review, includes the applications, the Public Review Draft MSHCP Volumes I (the proposed plan and mitigation) and II (the MSHCP reference document), and the accompanying Implementing Agreement, and the Draft EIS/EIR.

Individuals wishing copies of the documents should contact the Service by telephone at (760) 431-9440 or by letter to the Carlsbad Fish and Wildlife Office. Copies of the MSHCP, Draft EIS/EIR, and Draft Implementing Agreement also are available for public inspection, by appointment, during regular business hours, at the Carlsbad Fish and Wildlife Office (see ADDRESSES). Copies are also available for viewing at the Riverside County Administrative Center, 4080 Lemon Street, 7th Floor, Riverside, California; at public libraries in each of the applicant cities; and on the World Wide Web in the library section at http://www.rcip.org.

Background Information

Section 9 of the Act and Federal regulation prohibit the “take” of fish and wildlife species federally listed as endangered or threatened. Take of federally listed fish or wildlife is defined under the Act to include kill, harm, or harass. Harm includes significant habitat modification or degradation that actually kills or injures listed wildlife by significantly impairing essential behavioral patterns, including breeding, feeding, and sheltering (50 CFR 17.3(c)). Under limited circumstances, the Service may issue permits to authorize incidental take; i.e., take that is incidental to, and not the purpose of, otherwise lawful activity. Regulations governing incidental take permits for threatened and endangered species are found in 50 CFR 17.32 and 17.22, respectively.

The Applicants seek a permit to cover a total of 146 species, including 64 plant species (8 endangered, 3 threatened, and 53 unlisted); 3 crustacean species (1 endangered, 1 threatened and 1 unlisted); 2 insect species (both endangered); 2 fish species (1 threatened and 1 unlisted); 5 amphibian species (2 endangered, 1 threatened, and 2 unlisted); 12 reptile species (all unlisted); 45 bird species (2 endangered, 2 threatened, 1 proposed threatened, 1 candidate and 39 unlisted); and 14 mammal species (2 endangered and 12 unlisted). Collectively the 146 listed and unlisted species are referred to as “Covered Species” by the MSHCP. The permit would provide take authorization for covered animal species identified by the MSHCP as “Covered Species Adequately Conserved.” Currently, the Draft MSHCP identifies 128 species as “Covered Species Adequately Conserved.” The remaining species would be included as “Covered Species Adequately Conserved” upon completion of the conservation measures identified in the Draft MSHCP.

The MSHCP is intended to protect and sustain viable populations of native plant and animal species and their habitats in perpetuity through the creation of a preserve system, while accommodating continued economic development and quality of life for residents of western Riverside County. In the year 2020, the Southern California Association of Governments estimates that Riverside County will be home to approximately 2.8 million people, who will occupy approximately 918,000 dwelling units. This represents a doubling of the County's present population and housing stock. Another study by the California Department of Finance estimates that the County will continue to grow to 3.5 million people by 2030 and 4.5 million people by 2040. These residents will be located within 14 incorporated cities, as well as within numerous unincorporated areas.

The MSHCP is one part of the Riverside County Integrated Project (RCIP) intended to integrate and provide for future land use, transportation and conservation needs in Riverside County. The MSHCP plan area encompasses 1.2 million acres in western Riverside County and includes the following fourteen incorporated cities: Banning, Beaumont, Calimesa, Canyon Lake, Corona, Hemet, Lake Elsinore, Moreno Valley, Murietta, Norco, Perris, Riverside, San Jacinto, and Temecula. It is one of two large, multiple-jurisdictional habitat planning efforts in Riverside County, each of which constitutes a “subregional” plan under the State of California's Natural Community Conservation Planning (NCCP) Act of 1991.

As described in Volumes I and II of the Public Review Draft MSHCP and the Draft EIS/EIR, the proposed MSHCP would provide for the creation of a preserve system that protects and manages 153,000 acres of habitat for the Covered Species, consisting of 97,000 acres conserved as the local mitigation component, 6,000 acres conserved as mitigation for State Permittee Projects (California Department of Transportation and California Department of Parks and Recreation) and it is anticipated that the State and Federal Wildlife Agencies would provide an additional 50,000 acres to help achieve conservation identified in the MSHCP. The financing plan for the local portion of the reserve assembly of 97,000 acres includes a mitigation fee, tipping fee for use of waste management facilities, and other funding sources to conserve 56,000 acres. Conservation of the remaining 41,000 acres would accrue through the implementation of developer incentives and on-site set asides accomplished through the development review process. The proposed 153,000 acre reserve area is not specifically identified in the MSHCP. The conservation of 153,000 acres is anticipated to occur over the first 25 years of the program and when completed, must be in a configuration to, and include the vegetation communities that, provide for the conservation of covered species. To accomplish this, the proposed reserve will be assembled pursuant to written criteria that describe a possible design for the 153,000 acre reserve to be established within an approximately 300,000-acre area termed the “Criteria Area.”

Covered Activities would include, but are not limited to: public and private development within the plan area that requires a discretionary action by a permittee subject to consistency with MSHCP policies, two internal regional transportation facilities, maintenance of and safety improvements on existing roads, the Circulation Elements of the permittees, maintenance and construction of flood control facilities, single family homes on existing legal parcels within the Criteria Area, up to 10,000 new acres of agricultural activity within the Criteria Area, and compatible uses in the reserve. The MSHCP makes a provision for the inclusion of special districts and other non-permittee entities in the permit with a certificate of inclusion.

The EIS/EIR considers analyzes four other alternatives in addition to the proposed MSHCP Project Alternative described above including: A listed, proposed and strong candidate species alternative; A listed and proposed species alternative; an existing reserves alternative; and a no project alternative.

The listed, proposed and strong candidate species alternative focuses on the conservation of 29 State and/or federally listed species and 7 unlisted species. This alternative would conserve approximately 119,300 acres.

The listed and proposed species alternative focuses on the conservation of 29 State and/or federally listed or proposed species. This alternative is approximately 93,800 acres.

The existing reserves alternative does not provide any new land acquisition for conservation purposes, but instead focuses on conservation for six State and/or federally listed or candidate species and some unlisted species present in existing reserves. Species coverage would be dependent upon additional management regimes in the existing reserves.

Public Comments

The Service invites the public to comment on the Draft MSHCP, Draft Implementing Agreement, and Draft EIS/EIR during a 60-day public comment period beginning the date of this notice. All comments received, including names and addresses, will become part of the official administrative record and may be made available to the public. This notice is provided pursuant to section 10(a) of the Endangered Species Act and Service regulations for implementing the National Environmental Policy Act of 1969 (40 CFR 1506.6). The Service will evaluate the application, associated documents, and comments submitted thereon to prepare a Final Environmental Impact Statement. A permit decision will be made no sooner than 30 days after the publication of the Final Environmental Impact Statement and completion of the Record of Decision.

Dated: November 7, 2002.
Miel R. Corbett,
Acting Deputy Manager, Region 1, California/Nevada Operations Office, Sacramento, California.

[FR Doc. 02-28875 Filed 11-14-02; 8:45 am]

BILLING CODE 4310-55-P